INTERNATIONAL TRADE COMMISSION

[Inv. No. 337-TA-445]

In the Matter of Certain Plasma Display Panels and Products Containing Same; Notice of Decision to Extend the Deadline for Determining Whether To Review an Initial Determination Granting-in-Part a Motion To Declassify Certain Documents

AGENCY: U.S. International Trade Commission.

ACTION: Notice.

SUMMARY: Notice is hereby given that the U.S. International Trade Commission has determined to extend by forty-five (45) days, or until November 2, 2001, the deadline for determining whether to review an initial determination (ID) (Order No. 30) issued by the presiding administrative law judge (ALJ) in the above-captioned investigation.

FOR FURTHER INFORMATION CONTACT: Jean Jackson, Esq., Office of the General Counsel, U.S. International Trade Commission, 500 E Street, S.W., Washington, D.C. 20436, telephone 202-205-3104. Copies of all nonconfidential documents filed in connection with this investigation are or will be available for inspection during official business hours (8:45 a.m. to 5:15 p.m.) in the Office of the Secretary, U.S. International Trade Commission, 500 E Street S.W., Washington, D.C. 20436, telephone 202-205-2000. General information concerning the Commission may also be obtained by accessing its Internet server (http://www.usitc.gov). The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: The Commission instituted this investigation on January 16, 2001, based on a complaint filed by the Board of Trustees of the University of Illinois of Urbana, Illinois, and Competitive Technologies of Fairfield, Connecticut. The respondents named in the investigation are Fujitsu Limited, Fujitsu General Limited, Fujitsu General America Corp., Fujitsu Microelectronic, Inc. and Fujitsu Hitachi Plasma Display Ltd. (collectively, “Fujitsu”). The complaint, now withdrawn, alleged that Fujitsu violated section 337 of the Tariff Act of 1930 by importing into the United States, selling for importation, and/or selling within the United States after importation certain plasma display panels and products containing same by reason of infringement of certain claims of U.S. Letters Patent Nos. 4,866,349 and 5,0821,400.

On June 26, 2001, complainant moved to withdraw its complaint and terminate the investigation. On July 10, 2001, the presiding ALJ issued an ID granting the motion and terminating the investigation. The Commission decided not to review this ID on July 31, 2001, and it therefore became the Commission's final determination under Commission rule 210.42, 19 CFR 210.42. 66 FR 40722 (August 3, 2001).

On July 3, 2001, Fujitsu moved pursuant to Commission rule 210.20, 19 CFR 210.20, and paragraphs 2(b) and 3 of the protective order issued in this investigation for an order declassifying two documents. Complainant opposed the motion. The Commission investigative attorney supported the motion as to one document and opposed as to the other. On August 17, 2001, the presiding ALJ issued an ID granting the motion to declassify one document. He denied the motion to declassify the other document at issue. Complainant filed a petition for review of the ID on August 30, 2001.

This action is taken under the authority of section 337 of the Tariff Act of 1930, 19 U.S.C. 1337, and section 210.42(h) of the Commission Rules of Practice and Procedure, 19 CFR 210.42(h).

Copies of the nonconfidential version of the ID and all other nonconfidential documents filed in connection with this investigation are or will be available for inspection during official business hours (8:45 a.m. to 5:15 p.m.) in the Office of the Secretary, U.S. International Trade Commission, 500 E Street SW., Washington, DC 20436, telephone 202-205-2000.

By order of the Commission.

Issued: September 6, 2001.
Donna R. Koehnke,
Secretary.

[FR Doc. 01-22824 Filed 9-11-01; 8:45 am]

BILLING CODE 7020-02-P